DEPARTMENT OF TRANSPORTATION

Federal Aviation Administration

14 CFR Part 97

[Docket No. 30585; Amdt. No. 3249]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 31, 2007. The compliance date for each SIAP, associated Takeoff Minimums, and ODP is specified in the amendatory provisions.

The incorporation by reference of certain publications listed in the regulations is approved by the Director of the Federal Register as of December 31, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry. J. Hodges, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14 of the Code of Federal Regulations, Part 97 (14 CFR part 97), by establishing, amending, suspending, or revoking SIAPs, Takeoff Minimums and/or ODPs. The complete regulatory description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. Thus, the advantages of incorporation by reference are realized and publication of the complete description of each SIAP, Takeoff Minimums and ODP listed on FAA forms is unnecessary. This amendment provides the affected CFR sections and specifies the types of SIAPs and the effective dates of the SIAPs, the associated Takeoff Minimums, and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on December 14, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and/or Takeoff Minimums and/or Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 17 JAN 2008

Macon, GA, Macon Downtown, LOC RWY 10, Amdt 6A

Effective 14 FEB 2008

Andalusia/OPP, AL, South Alabama Rgnl at Bill Benton Field, RNAV (GPS) RWY 11, Amdt 1B

Andalusia/OPP, AL, South Alabama Rgnl at Bill Benton Field, RNAV (GPS) RWY 29, Amdt 1C

Page, AZ, Page Muni, RNAV (GPS) RWY 15, Orig

Page, AZ, Page Muni, RNAV (GPS) RWY 33, Orig

Page, AZ, Page Muni, GPS RWY 15, Orig-A, (CANCELLED)

Page, AZ, Page Muni, Takeoff Minimums and Obstacle DP, Amdt 2

Fort Myers, FL, Southwest Florida Intl, ILS OR LOC RWY 6, Amdt 6

West Palm Beach, FL, Palm Beach Intl, ILS OR LOC RWY 27R, Amdt 2

Blackfoot, ID, McCarley Field, RNAV (GPS)-A, Orig

Blackfoot, ID, McCarley Field, RNAV (GPS)-B, Orig

Blackfoot, ID, McCarley Field, VOR/DME-C, Orig

Blackfoot, ID, McCarley Field, RNAV (GPS) RWY 1, Orig, (CANCELLED)

Blackfoot, ID, McCarley Field, RNAV (GPS) RWY 19, Orig, (CANCELLED)

Blackfoot, ID, McCarley Field, VOR/DME RWY 1, Orig, (CANCELLED)

Greencastle, IN, Putnam County, RNAV (GPS) RWY 18, Amdt 1

Greencastle, IN, Putnam County, RNAV (GPS) RWY 36, Amdt 1

Greencastle, IN, Putnam County, Takeoff Minimums and Obstacle DP, Orig

Indianapolis, IN, Indianapolis Intl, ILS OR LOC RWY 5L, ILS RWY 5L (CAT II), ILS RWY 5L (CAT III), Amdt 3

Indianapolis, IN, Indianapolis Intl, ILS OR LOC RWY 5R, ILS 5R (CAT II), ILS RWY 5R (CAT III), Amdt 5

Indianapolis, IN, Indianapolis Intl, ILS OR LOC RWY 23L, Amdt 5

Indianapolis, IN, Indianapolis Intl, ILS OR LOC RWY 23R, Amdt 3

Indianapolis, IN, Indianapolis Intl, RNAV (GPS) RWY 5L, Amdt 1

Indianapolis, IN, Indianapolis Intl, RNAV (GPS) RWY 5R, Amdt 1

Indianapolis, IN, Indianapolis Intl, RNAV (GPS) RWY 23L, Amdt 1

Indianapolis, IN, Indianapolis Intl, RNAV (GPS) RWY 23R, Amdt 1

Valparaiso, IN, Porter County Muni, RNAV (GPS) RWY 9, Orig

Valparaiso, IN, Porter County Muni, RNAV (GPS) RWY 18, Orig

Valparaiso, IN, Porter County Muni, RNAV (GPS) RWY 27, Orig

Valparaiso, IN, Porter County Muni, GPS RWY 9, Amdt 1, (CANCELLED)

Valparaiso, IN, Porter County Muni, GPS RWY 27, Orig, (CANCELLED)

Valparaiso, IN, Porter County Muni, Takeoff Minimums and Obstacle DP, Orig

Boyne Falls, MI, Boyne Mountain, RNAV (GPS) RWY 17, Orig

Boyne Falls, MI, Boyne Mountain, RNAV (GPS) RWY 35, Orig

Boyne Falls, MI, Boyne Mountain, NDB OR GPS-A, Amdt 6A, (CANCELLED)

Plymouth, MI, Canton-Plymouth-Mettetal, RNAV (GPS) RWY 18, Orig

Plymouth, MI, Canton-Plymouth-Mettetal, VOR-A, Amdt 12

Sturgis, MI, Kirsch Muni, RNAV (GPS) RWY 18, Orig

Sturgis, MI, Kirsch Muni, GPS RWY 18, Orig, (CANCELLED)

Hinckley, MN, Field of Dreams, RNAV (GPS) RWY 6, Orig

Hinckley, MN, Field of Dreams, RNAV (GPS) RWY 24, Orig

Hinckley, MN, Field of Dreams, Takeoff Minimums and Obstacle DP, Orig

Minneapolis, MN, Flying Cloud, ILS OR LOC RWY 10R, Amdt 2C

Morris, MN, Morris Muni-Charlie Schmidt Fld, RNAV (GPS) RWY 32, Orig

Morris, MN, Morris Muni-Charlie Schmidt Fld, VOR RWY 32, Amdt 5

Morris, MN, Morris Muni-Charlie Schmidt Fld, GPS RWY 32, Orig, (CANCELLED)

Morris, MN, Morris Muni-Charlie Schmidt Fld, Takeoff Minimums and Obstacle DP, Orig

Pipestone, MN, Pipestone Muni, RNAV (GPS) RWY 18, Orig

Pipestone, MN, Pipestone Muni, RNAV (GPS) RWY 36, Orig

Pipestone, MN, Pipestone Muni, NDB RWY 36, Amdt 7

Pipestone, MN, Pipestone Muni, Takeoff Minimums and Obstacle DP, Orig

Dayton, OH, James M Cox Dayton Intl, ILS OR LOC RWY 24R, Amdt 7

Bend, OR, Bend Muni, RNAV (GPS) Y RWY 16, Amdt 1A

Bend, OR, Bend Muni, RNAV (GPS) Z RWY 16, Orig

Bend, OR, Bend Muni, RNAV (GPS) RWY 34, Orig

Hartsville, SC, Hartsville Regional, Takeoff Minimums and Obstacle DP, Orig

Bremerton, WA, Bremerton National, ILS OR LOC RWY 19, Amdt 15

Bremerton, WA, Bremerton National, RNAV (GPS) RWY 1, Orig

Bremerton, WA, Bremerton National, RNAV (GPS) RWY 19, Orig

Bremerton, WA, Bremerton National, GPS RWY 1, Amdt 1A, (CANCELLED)

Bremerton, WA, Bremerton National, Takeoff Minimums and Obstacle DP, Amdt 3

Seattle, WA, Boeing Field/King County Intl, RNAV (GPS) Y RWY 13R, Orig-B

Rice Lake, WI, Rice Lake Regional-Carl's Field, RNAV (GPS) RWY 19, Amdt 2

Wausau, WI, Wausau Downtown, RNAV (GPS) RWY 12, Orig

Wausau, WI, Wausau Downtown, VOR/DME OR GPS RWY 12, Amdt 3, (CANCELLED)

Effective 13 MAR 2008

Lynchburg, VA, Lynchburg Rgnl/Preston Glenn Fld, Takeoff Minimums and Obstacle DP, Amdt 8

Effective 10 APR 2008

Ionia, MI, Ionia County, VOR-A, Amdt 1

[FR Doc. E7-24992 Filed 12-28-07; 8:45 am]

BILLING CODE 4910-13-P